NATIONAL SCIENCE FOUNDATION

Notice of Availability of a Draft Site-Specific Environmental Assessment and Notice of Public Hearings; Correction

AGENCY: National Science Foundation.

ACTION: Notice of the availability of a Draft Site-Specific Environmental Assessment (Draft SSEA) for the Ocean Observatories Initiative (OOI), request for public comment on the Draft SSEA, and notice of public hearings; Correction.

SUMMARY: The National Science Foundation (NSF) published a document in the Federal Register of August 16, 2010, concerning requests for public comment on a Draft Site-Specific Environmental Assessment for the Ocean Observatories Initiative (OOI). The document did not include the dates and times for the open house sessions.

Correction

In the Federal Register of August 16, 2010, in FR Doc. 2010-20107, on page 50008, in the second column, correct the DATES and ADDRESSES caption to read:

DATES and ADDRESSES: All hearings will start with an open house session from 7 p.m. to 7:45 p.m. A presentation and formal public comment period will be held from 7:45 p.m. to 9 p.m. Public hearings will be held on the following dates and at the following locations:

• Wednesday, September 1, 2010, at Westport Maritime Museum, Westport, WA.

• Thursday, September 2, 2010, at Guin Library Seminar Room, Hatfield Marine Science Center, Newport, OR.

• Wednesday, September 8, 2010 date, at New Bedford Library, 613 Pleasant Street, New Bedford, MA 02740-6203.

FOR FURTHER INFORMATION CONTACT: Copies of the Draft SSEA are available upon request from: Jean McGovern, NSF, Division of Ocean Sciences, 4201 Wilson Blvd., Arlington, VA 22230; Telephone: (703) 292-7591. The Draft SSEA is also available at the following Web site: http://www.nsf.gov/geo/oce/envcomp/index.jsp.

SUPPLEMENTARY INFORMATION: The text from the original notice follows:

The National Science Foundation (NSF) gives notice of the availability of the Draft SSEA for the OOI, and requests public review and comment on the document. NSF also provides notice of public hearings on the Draft SSEA for the OOI. The Division of Ocean Sciences in the Directorate for Geosciences (GEO/OCE) has prepared a Draft SSEA for the OOI, a multi-million dollar Major Research Equipment and Facilities Construction effort intended to put moored and cable infrastructure in discrete locations in the coastal and global ocean. The Draft SSEA has been prepared to assess the potential impacts on the human and natural environment associated with proposed site-specific requirements in the design, installation, and operation of the OOI that were previously assessed in a 2008 Programmatic Environmental Assessment (PEA) and a 2009 Supplemental Environmental Report (SER). The scope of the environmental impact analysis of the SSEA is tiered from the previously prepared PEA, associated Finding of No Significant Impact (FONSI), and SER. It focuses only on those activities and the associated potential impacts, including cumulative impacts, resulting from the site-specific installation and operation of OOI assets and not previously assessed in the PEA and SER. The Draft SSEA is available for public comment for a 30-day period. Comments may be mailed to Jean McGovern, National Science Foundation, Division of Ocean Sciences, 4201 Wilson Blvd., Arlington, VA 22230, or submitted via e-mail at nepacomments@nsf.gov. The deadline for submitting comments is September 15, 2010.

NSF will conduct three public hearings to receive oral and written comments on the Draft SSEA. Federal, state, and local agencies, Native American Tribes and Nations, and interested individuals are invited to be present or represented at the public hearings. This notice announces the dates and locations of the public hearings for this Draft SSEA. An open house session will precede the scheduled public hearing at each of the locations listed below and will allow individuals to review the information presented in the Draft SSEA. NSF representatives will be available during the open house sessions to clarify information related to the Draft SSEA.

Oceanographic research has long relied on research vessel cruises (expeditions) as the predominate means to make direct measurements of the ocean. Remote sensing (use of satellites) has greatly advanced abilities to measure ocean surface characteristics over extended periods of time. A major advancement for oceanographic research methods is the ability to make sustained, long-term, and adaptive measurements from the surface to the ocean bottom. “Ocean Observatories” are now being developed to further this goal. Building upon recent technology advances and lessons learned from prototype ocean observatories, NSF's Ocean Sciences Division (OCE) is proposing to fund the OOI, an interactive, globally distributed and integrated infrastructure that will be the backbone for the next generation of ocean sensors and resulting complex ocean studies presently unachievable. The OOI reflects a community-wide, national and international scientific planning effort and is a key NSF contribution to the broader effort to establish focused national ocean observatory capabilities through the Integrated Ocean Observing System (IOOS).

The OOI infrastructure would include cables, buoys, deployment platforms, moorings, junction boxes, electric power generation (solar, wind, and/or fuel cell,), and two-way communications systems. This large-scale infrastructure would support sensors located at the sea surface, in the water column, and at or beneath the seafloor. The OOI would also support related elements, such as unified project management, data dissemination and archiving, modeling of oceanographic processes, and education and outreach activities essential to the long-term success of ocean science. It would include the first U.S. multi-node cabled observatory; fixed and re-locatable coastal arrays coupled with mobile assets; and advanced buoys for interdisciplinary measurements, especially for data limited areas of the Southern Ocean and other high-latitude locations.

The OOI design is based upon three main technical elements across global, regional, and coastal scales. At the global and coastal scales, moorings would provide locally generated power to seafloor and platform instruments and sensors and use a satellite link to shore and the Internet. Up to four Global Scale Nodes (GSN) or buoy sites are proposed for ocean sensing in the Eastern Pacific and Atlantic oceans. The Regional-Scale Nodes (RSN) off the coast of Washington and Oregon would consist of seafloor observatories with various chemical, biological, and geological sensors linked with submarine cables to shore that provide power and Internet connectivity. Coastal-Scale Nodes (CSN) would be represented by the fixed Endurance Array, consisting of a combination of cabled nodes and stand-alone moorings, off the coast of Washington and Oregon, and the relocatable Pioneer Array off the coast of Massachusetts, consisting of a suite of stand-alone moorings. In addition, there would be an integration of mobile assets such as autonomous underwater vehicles (AUVS) and/or gliders with the GSN, RSN, and CSN observatories.

The Draft SSEA is available upon request from: Jean McGovern, NSF, Division of Ocean Sciences, 4201 Wilson Blvd., Arlington, VA 22230; Telephone: (703) 292-7591. It is also available for electronic public viewing at the following Web site: http://www.nsf.gov/geo/oce/envcomp/index.jsp.

Federal, state, local agencies, Native American Tribes and Nations, and interested parties are invited to be present or represented at the public hearings. Written comments can also be submitted during the open house sessions preceding the public hearings or at any time during the 30-day public review period of the Draft SSEA.

Oral statements will be heard and transcribed by a stenographer; however, to ensure the accuracy of the record, all statements should be submitted in writing. All statements, both oral and written, will become part of the public record on the Draft SSEA and will be responded to in the Final SSEA. Equal weight will be given to both oral and written statements. In the interest of time available time, and to ensure all who wish to give an oral statement have the opportunity to do so, each speaker's comments will be limited to three (3) minutes. If a long statement is to be presented, it should be summarized at the public hearing with the full text submitted either in writing at the hearing or mailed to Jean McGovern, National Science Foundation, Division of Ocean Sciences, 4201 Wilson Blvd., Arlington, VA 22230. In addition, comments may be submitted via e-mail at nepacomments@nsf.gov.

Dated: August 20, 2010.
Suzanne H. Plimpton,
Reports Clearance Officer, National Science Foundation.

[FR Doc. 2010-21154 Filed 8-25-10; 8:45 am]

BILLING CODE 7555-01-P